DEPARTMENT OF LABOR

Employment and Training Administration

[TA-W-61,347; TA-W-61,347A]

Wellman, Incorporated, Administrative Office, Also Known as Fiber Industries, Inc., Fort Mill, SC, Including Employees in Support of Wellman, Incorporated, Administrative Office, Also Known as Fiber Industries, Inc., Fort Mill, SC, Working Out of Fresh Meadow, NY and Commack, NY; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility To Apply for Worker Adjustment Assistance and Alternative Trade Adjustment Assistance on May 4, 2007, applicable to workers of Wellman, Incorporated, Administrative Offices, Fort Mill, South Carolina. The notice was published in the Federal Register on May 17, 2007 (72 FR 27853). The certification was amended on January 12, 2009 to include workers of the Administrative Office working out of Fresh Meadow, New York and Commack, New York. The notice was published in the Federal Register on January 12, 2009 (74 FR 4462).

At the request of the subject firm official, the Department reviewed the certification for workers of the subject firm. The workers are engaged in providing technical and administrative support services for the firm's production of polyester and nylon fibers.

New information shows that some of the workers' wages are being reported under a separate unemployment insurance (UI) tax account for Fiber Industries, Inc.

Accordingly, the Department is amending this certification to include workers of the subject firm whose UI wages are reported under the also known as name, Fiber Industries, Inc.

The intent of the Department's certification is to include all workers at Wellman, Incorporated, Administrative Offices, Fort Mill, South Carolina who were secondarily affected as an upstream supplier for a trade certified primary firm.

The amended notice applicable to TA-W-61,347 and TA-W-61,347A is hereby issued as follows:

“All workers of Wellman, Incorporated, Administrative Offices, also known as Fiber Industries, Inc., Fort Mill, South Carolina, (TA-W-61,347), including employees in support of Wellman, Incorporated, Administrative Offices, also known as Fiber Industries, Inc., Fort Mill, South Carolina, located in Fresh Meadow, New York and Commack, New York, New York (TA-W-61,347A), who became totally or partially separated from employment on or after April 11, 2006, through May 4, 2009, are eligible to apply for adjustment assistance under Section 223 of the Trade Act of 1974, and are also eligible to apply for alternative trade adjustment assistance under Section 246 of the Trade Act of 1974.”

Signed at Washington, DC this 14th day of May 2009.
Linda G. Poole,
Certifying Officer, Division of Trade Adjustment Assistance.

[FR Doc. E9-14328 Filed 6-17-09; 8:45 am]

BILLING CODE 4510-FN-P